TENNESSEE VALLEY AUTHORITY

Meeting of the Regional Resource Stewardship Council

AGENCY: Tennessee Valley Authority (TVA).

ACTION: Notice of meeting.

SUMMARY: TVA will convene a meeting of the Regional Resource Stewardship Council (Regional Council) to obtain views and advice on the topic of TVA's stewardship program infrastructure and emergency preparedness and coordination programs. Under the TV Act, TVA is charged with the proper use and conservation of natural resources for the purpose of fostering the orderly and proper physical, economic and social development of the Tennessee Valley region. The Regional Council was established to advise TVA on its natural resource stewardship activities. Notice of this meeting is given under the Federal Advisory Committee Act, 5 U.S.C. App. 2, (FACA).

The meeting agenda includes the following:

(1) Update on TVA Board governance.

(2) TVA Stewardship infrastructure.

30 TVA emergency preparedness and external coordination.

(3) Current issues, including Bear Creek Dam.

(4) Public comments.

(5) Council discussion and advice.

The Regional Council will hear opinions and views of citizens by providing a public comment session. The public comment session will be held from 9:30 a.m. to 10:30 a.m. EDT on Thursday, May 11, 2006. Citizens who wish to express views and opinions on the topic of TVA's recreation strategy may do so during the Public Comment portion of the agenda. Public Comments participation is available on a Comment portion of the agenda. Public Comments participation is available on a first-come, first-served basis. Speakers addressing the Regional Council are requested to limit their remarks to no more than 5 minutes. Persons wishing to speak are requested to register at the door and are then called on by the Regional Council Chair during the public comment period. Handout materials should be limited to one printed page. Written comments are also invited and may be mailed to the Regional Resource Stewardship Council, Tennessee Valley Authority, 400 West Summit Hill Drive, WT 11A, Knoxville, Tennessee 37902.

DATES: The meeting will be held on Wednesday, May 10, 2006, from 8 a.m. to 4 p.m. and on Thursday, May 11, 2006, from 8 a.m. to 12:15 p.m. Eastern daylight Time.

ADDRESSES: The meeting will be held in the auditorium at the Tennessee Valley Authority headquarters, 400 West Summit Hill Drive, Knoxville, Tennessee 37902, and will be open to the public. Anyone needing special access or accommodations should let the contact below know at least a week in advance.

FOR FURTHER INFORMATION CONTACT: Sandra L. Hill, 400 West Summit Hill Drive, WT 11A, Knoxville, Tennessee 37902, (865) 632-2333.

Dated: April 17, 2006.
Kathryn J. Jackson,
Executive Vice President, River System Operations & Environment, Tennessee Valley Authority.

[FR Doc. 06-4020 Filed 4-27-06; 8:45 am]

BILLING CODE 8120-08-M